DEPARTMENT OF HEALTH AND HUMAN SERVICES

Centers for Disease Control and Prevention

Meetings of the Advisory Committee for Injury Prevention and Control, and Its Subcommittee, the Science and Program Review Subcommittee

In accordance with Section 10(a)(2) of the Federal Advisory Committee Act (Pub. L. 92-463), the Centers for Disease Control and Prevention (CDC) announces the following subcommittee and committee meetings.

Name: Science and Program Review Subcommittee (SPRS).

Time and Date: 8:30 a.m.-12 p.m., December 11, 2007.

Place: CDC, Global Communications Center, 1600 Clifton Road, NE., Bldg. 19, Room 117, Atlanta, GA 30333.

Purpose: The Science and Program Review Subcommittee (SPRS) provides advice on the needs, structure, progress and performance of programs of the National Center for Injury Prevention and Control (NCIPC).

Matters to be Discussed: The subcommittee will meet December 11, 2007, to discuss scientific matters, including but not limited to, the FY07 extramural research awards, the research portfolio reviews, and revisions to the Injury Research Agenda.

Agenda items are subject to change as priorities dictate.

Name: Advisory Committee for Injury Prevention and Control.

Times and Dates:

1 p.m.-5:30 p.m., December 11, 2007.

8:30 a.m.-12 p.m., December 12, 2007.

Place: CDC, Global Communications Center, 1600 Clifton Road, NE, Bldg. 19, Room B3, Atlanta, GA 30333.

Purpose: The committee advises and makes recommendations to the Secretary, Department of Health and Human Services, the Director, Centers for Disease Control and Prevention (CDC), and the Director, National Centers for Injury Prevention and Control (NCIPC) regarding feasible goals for the prevention and control of injury. The committee makes recommendations regarding policies, strategies, objectives, and priorities, and reviews progress toward injury prevention and control.

Matters to be Discussed: The meeting will open to the public. The Advisory Committee for Injury Prevention and Control (ACIPC) will be discussing partnership activities and how the ACIPC can advance the field of injury prevention and control. Agenda items are subject to change as priorities dictate.

Contact Person for More Information: Ms. Amy Harris, Executive Secretary, ACIPC, NCIPC, CDC, 4770 Buford Highway, NE., M/S K61, Atlanta, Georgia 30341-3724, telephone (770) 488-4936.

The Director, Management Analysis and Services Office, has been delegated the authority to sign Federal Register notices pertaining to announcements of meetings and other committee management activities, for both CDC and the Agency for Toxic Substances and Disease Registry.

Dated: November 5, 2007.
Elaine L. Baker,
Director, Management Analysis and Services Office, Centers for Disease Control and Prevention.

[FR Doc. E7-22149 Filed 11-9-07; 8:45 am]

BILLING CODE 4163-18-P